DEPARTMENT OF TRANSPORTATION

Federal Transit Administration

Request for Transit Rail Advisory Committee for Safety (TRACS) Nominations

AGENCY: Federal Transit Administration, DOT.

ACTION: Notice to solicit TRACS nominees.

SUMMARY: The Federal Transit Administration (FTA) is seeking nominations for individuals to serve on the Transit Rail Advisory Committee for Safety (TRACS). The Advisory Committee meets at least twice a year to advise FTA on transit safety issues. The recommendations of the TRACS will help FTA develop policies, practices, and regulations for enhancing safety across all modes of public transportation as FTA implements new statutory authority for public transportation safety oversight.

FOR FURTHER INFORMATION CONTACT: Bridget Zamperini, Office of Transit Safety and Oversight (TSO), Federal Transit Administration, 1200 New Jersey Avenue SE., Washington, DC 20590-0001 (telephone: 202-366-0306; or email: Bridget.Zamperini@dot.gov).

SUPPLEMENTARY INFORMATION:

I. Background

On December 8, 2012, TRACS was chartered by the Secretary of the Department of Transportation (the Secretary) for the purpose of providing a forum for the development, consideration, and communication of information from knowledgeable and independent perspectives regarding modes of public transit safety. Currently, the TRACS committee consists of members representing key constituencies affected by rail transit safety requirements, including rail safety experts, research institutions, industry associations, labor unions, transit agencies, and State Safety Oversight Agencies.

With passage of the Moving Ahead for Progress in the 21st Century Act (MAP-21), Public Law 112-141, (2012), FTA's safety oversight authority has been expanded to include all modes of public transportation. Therefore, TRACS membership will be reconfigured to reflect a broader range of safety constituents that is more representative of the public transit industry. To that end, the FTA Administrator invites nominations from members representing key constituencies affected by rail transit or bus transit safety requirements, including labor unions, rail and bus transit agencies, paratransit service providers (both general public and Americans with Disabilities Act complementary service), State Safety Oversight Agencies, State Departments of Transportation, transit safety research organizations and others from the rail transit safety or bus transit safety industry.

The TRACS meets approximately twice a year, usually in Washington, DC, but may meet more frequently or via conference call as needed. Members serve at their own expense and receive no salary from the Federal Government. FTA retains authority to review the participation of any TRACS member and to recommend changes at any time. TRACS meetings will be open to the public and one need not be a member of TRACS to attend. Interested parties may view the information about the committee at: http://www.fta.dot.gov/about/13099.html.

II. Nominations

Qualified individuals interested in serving on this committee are invited to apply to FTA for appointment. The FTA Administrator will recommend nominees for appointment by the Secretary. Appointments are for two-year terms; however, the Secretary may reappoint a member to serve additional terms. Nominees should be knowledgeable of trends or issues related to rail transit and bus transit safety. Along with their experience in the bus transit or rail transit industry, nominees will also be evaluated on factors including leadership and organizational skills, region of country represented, diversity characteristics, and balance of industry representation.

Each nomination should include the nominee's name and organizational affiliation, a cover letter describing the nominee's qualifications and interest in serving on the committee, a curriculum vitae or resume of the nominee's qualifications, and contact information including the nominee's name, address, phone number, fax number, and email address. Self-nominations are acceptable. FTA prefers electronic submissions for all applications to TRACS@dot.gov. Applications will also be accepted via U.S. mail at the address identified in the FOR FURTHER INFORMATION CONTACT section of this notice.

In the near-term, FTA expects to nominate up to five (5) representatives from the transit bus safety community for immediate TRACS membership. In order to be considered for this round of appointments, applications should be submitted by August 30, 2013. Additionally, in order to fill any future vacancy that may arise, nominations from persons representing key constituencies affected by rail transit or bus transit safety requirements, as noted in section I above, will continue to be accepted after August 30, 2013.

The Secretary, in consultation with the FTA Administrator, will make the final decision regarding committee membership selections.

Issued on: June 19, 2013.
Peter Rogoff,
Administrator.

[FR Doc. 2013-15053 Filed 6-21-13; 8:45 am]

BILLING CODE P